DEPARTMENT OF THE INTERIOR

National Park Service

Notice of Intent to Repatriate Cultural Items: University of Idaho, Alfred W. Bowers Laboratory of Anthropology, Moscow, ID

AGENCY: National Park Service, Interior.

ACTION: Notice.

Notice is here given in accordance with the Native American Graves Protection and Repatriation Act (NAGPRA), 25 U.S.C. 3005, of the intent to repatriate cultural items in the possession of the University of Idaho, Alfred W. Bowers Laboratory of Anthropology, Moscow, ID, that meet the definitions of “unassociated funerary objects” and “sacred object” under 25 U.S.C. 3001.

This notice is published as part of the National Park Service's administrative responsibilities under NAGPRA, 25 U.S.C. 3003(d)(3). The determinations in this notice are the sole responsibility of the museum, institution, or Federal agency that has control of the cultural items. The National Park Service is not responsible for the determinations in this notice.

In 1963, five unassociated funerary objects were removed from the Whitebird Site, 10-IH-84. The five unassociated funerary objects are one square wood stick, one brass or copper button, one dentalium vulgare shell, one-end rounded cork, and one bone whistle. This site is located within the area ceded by the Nez Perce to the United States pursuant to the Nez Perce Treaty of June 9, 1863 (14 Stat. 647). The site is within the area recognized by a final judgment of the Indian Claims Commission as the aboriginal land of the Nez Perce Tribe, Idaho (18 Ind. Cl. Comm. 1, 1967). Finally, the site is a known Nez Perce burial site.

Currently, the Whitebird Site is federally-owned and administered by the National Park Service; however, at the time of excavation, Harry Hagen owned this property. The objects were removed during the survey and subsequent construction of an alternate road (Route (F-41/3(13)). Although the site did not yield human remains at the time of the excavation, it was noted that the site had been “almost completely potted by amateurs,” (Idaho Archaeological Site Survey, recorded by Perry Silver, Idaho State Archaeological Society).

In addition to being a funerary object, the bone whistle has been described as possibly sacred. Bone whistles are used in special ceremonies, and may have been buried with the person who owned it. Based on consultation evidence with the Nez Perce Tribe, the bone whistle has been determined to be a sacred object.

Officials from the University of Idaho Alfred W. Bowers Laboratory of Anthropology have determined that, pursuant to 25 U.S.C. 3001(3)(B), the five cultural items described above are reasonably believed to have been placed with or near individual human remains at the time of death or later as part of a death rite or ceremony and are believed, by a preponderance of the evidence, to have been removed from a burial site of Native American individuals. Officials of the University of Idaho, Alfred W. Bowers Laboratory of Anthropology also have determined that, pursuant to 25 U.S.C. 3001(3)(C), the one cultural item described above is a specific ceremonial object needed by traditional Native American religious leaders for the practice of traditional Native American religions by their present-day adherents. Lastly, officials of the University of Idaho, Alfred W. Bowers Laboratory of Anthropology have determined that, pursuant to 25 U.S.C. 3001(2), there is a relationship of shared group identity that can be reasonably traced between the sacred object and unassociated funerary objects and the Nez Perce Tribe, Idaho.

Representatives of any other Indian tribe that believes itself to be culturally affiliated with the unassociated funerary objects and/or sacred object should contact Leah K. Evans-Janke, University of Idaho, Alfred W. Bowers Laboratory of Anthropology, Moscow, ID 83844-1111, telephone (208) 885-3733, before July 1, 2010. Repatriation of the unassociated funerary objects and sacred object to the Nez Perce Tribe, Idaho, may proceed after that date if no additional claimants come forward.

The University of Idaho, Alfred W. Bowers Laboratory of Anthropology is responsible for notifying the Nez Perce Tribe, Idaho, that this notice has been published.

Dated: May 5, 2010
Sherry Hutt,
Manager, National NAGPRA Program.

[FR Doc. 2010-13062 Filed 5-28-10; 8:45 am]

BILLING CODE 4312-50-S